DEPARTMENT OF HEALTH AND HUMAN SERVICES

National Institutes of Health

Center for Scientific Review; Amended Notice of Meeting

Notice is hereby given of a change in the meeting of the Center for Scientific Review Special Emphasis Panel, August 10, 2000, 2:00 PM to August 10, 2000, 4:00 PM, NIH Rockledge 2, Bethesda, MD, 20892 which was published in the Federal Register on July 28, 2000, 65 FR 46485-46487.

The meeting times have been changed to 11:00 AM to 1:00 PM. the meeting dates and location remain the same.

The meeting is closed to the public.

Dated: August 1, 2000.
LaVerne Y. Stringfield,
Director, Office of Federal Advisory Committee Policy.

[FR Doc. 00-20043 Filed 8-8-00; 8:45 am]

BILLING CODE 4140-01-M